DEPARTMENT OF HEALTH AND HUMAN SERVICES

National Institutes of Health

National Library of Medicine Amended Notice of Meeting

Notice is hereby given of a change in the meeting of the Biomedical Informatics, Library and Data Sciences Review Committee, June 7, 2018, 8:00 a.m. to 6:00 p.m., June 8, 2018, 8:00 a.m. to 6:00 p.m., Bethesda Hyatt, 1 Bethesda Metro Center, Bethesda, MD 20814 which was published in the Federal Register on April 2, 2018, 83 FR 63, Page 14019.

The meeting of the Biomedical Informatics, Library and Data Sciences Review Committee (01) will be held on June 7, 2018, 8:00 a.m. to 6:00 p.m. and June 8, 2018, 8:00 a.m. to 10:00 a.m. The Biomedical Informatics, Library and Data Sciences Review Committee (02) will be held on June 8, 2018, 10:00 a.m. to 3:00 p.m. The meeting is closed to the public.

Dated: April 18, 2018.
Michelle D. Trout,
Program Analyst, Office of Federal Advisory Committee Policy.

[FR Doc. 2018-08442 Filed 4-23-18; 8:45 am]

BILLING CODE 4140-01-P